NUCLEAR REGULATORY COMMISSION

Sunshine Act Meetings Notice

Agency Holding the Meetings: Nuclear Regulatory Commission.

Date: Weeks of January 14, 21, 28; February 4, 11, 18, 2008.

Place: Commissioners' Conference Room, 11555 Rockville Pike, Rockville, Maryland.

Status: Public and Closed.

Matters to be Considered:

Week of January 14, 2008

Monday, January 14, 2008

10 a.m.

Discussion of Adjudicatory Issues (Closed—Ex. 10).

Tuesday, January 15, 2008

9:25 a.m.

Affirmation Session (Public Meeting).

a. PG&E Co. (Diablo Canyon ISFSI), Docket No. 72-26-ISFSI, San Luis Obispo Mothers for Peace's Contention and Request for Hearing Re Diablo Canyon Environmental Assessment Supplement (Tentative).

b. Pilgrim Nuclear Power Station License Renewal Pilgrim Watch's Appeal of Interlocutory Board Order Summarily Disposing of Contention 3 (SAMAs) (LBP-07-13).

Week of January 21, 2008—Tentative

There are no meetings scheduled for the Week of January 21, 2008.

Week of January 28, 2008—Tentative

There are no meetings scheduled for the Week of January 28, 2008.

Week of February 4, 2008—Tentative

There are no meetings scheduled for the Week of February 4, 2008.

Week of February 11, 2008—Tentative

There are no meetings scheduled for the Week of February 11, 2008.

Week of February 18, 2008—Tentative

Wednesday, February 20, 2008

9:30 a.m.

Periodic Meeting on New Reactor Issues, Part 1 (Public Meeting). (Contact: Donna Williams, 301-415-1322.)

1:30 p.m.

Periodic Meeting on New Reactor Issues, Part 2 (Public Meeting). (Contact: Donna Williams, 301-415-1322).

This meeting, parts 1 and 2, will be webcast live at the Web address— http://www.nrc.gov.

*The schedule for Commission meetings is subject to change on short notice. To verify the status of meetings, call (recording)—(301) 415-1292. Contact person for more information: Michelle Schroll, (301) 415-1662.

The NRC Commission Meeting Schedule can be found on the Internet at: http://www.nrc.gov/about-nrc/policy-making/schedule.html.

The NRC provides reasonable accommodation to individuals with disabilities where appropriate. If you need a reasonable accommodation to participate in these public meetings, or need this meeting notice or the transcript or other information from the public meetings in another format (e.g., braille, large print), please notify the NRC's Disability Program Coordinator, Rohn Brown, at 301-492-2279, TDD: 301-415-2100, or by e-mail at REB3@nrc.gov. Determinations on requests for reasonable accommodation will be made on a case-by-case basis.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: January 10, 2008.
R. Michelle Schroll,
Office of the Secretary.

[FR Doc. 08-114 Filed 1-11-08; 10:43 am]

BILLING CODE 7590-01-P